OFFICE OF PERSONNEL MANAGEMENT

5 CFR Part 293

RIN 3206-AL24

Personnel Records

AGENCY: Office of Personnel Management.

ACTION: Notice of proposed rulemaking; withdrawal.

SUMMARY: The Office of Personnel Management (OPM) hereby withdraws a notice of proposed rulemaking (NPRM) regarding Personnel Records, published in the Federal Register January 18, 2008. OPM has determined withdrawal of the NPRM is appropriate as it would be impractical to issue this rule without the existence of a Governmentwide employee identifier.

DATES: The proposed rule, published on January 18, 2008, in the Federal Register (73 FR 3410), is withdrawn as of January 27, 2010.

FOR FURTHER INFORMATION CONTACT: Barbara Goldberg, Human Resources Specialist, Office of Personnel Management, Office of the Chief Information Officer, Records Management, Room 7439, 1900 E Street, NW., Washington, DC 20415. E-mail: barbara.goldberg@opm.gov. Telephone: (202) 606-4054. Facsimile: (202) 606-1719.

SUPPLEMENTARY INFORMATION:

Background

On January 18, 2008, OPM issued a Notice of Proposed Rulemaking (NPRM) in the Federal Register (73 FR 3410) to achieve a consistent and effective policy for the restricted use of Social Security Numbers (SSN) by Federal agencies to combat fraud and identity theft.

The comment period for the NPRM closed on March 18, 2008. OPM received and considered all 66 written comments in response to the NPRM. Comments were received from 6 Federal agencies, 1 agency component, 1 Federal commission, 6 Federal insurance carriers and 1 labor union. The following is a discussion of the comments OPM received during the public comment period raised in connection with the merits of the proposed rule.

Some agencies were applying the restricted use of the SSN imposed by these rules across all government functions. OPM received several comments suggesting the adaptation of changes to part 293 was useful in understanding various positions; however, the comments were not directly related to the subpart of these rules.

Several agencies asked for clarification regarding the language used in various parts of the proposed rules.

The primary concern from all categories of respondents was the necessity to put into place an alternate employee identifier prior to implementing the proposed rules. Comments centered on the numerous systems and business practices, both internal and external to government systems, which use the SSN as a primary identifier. Systems and processes cited included electronic recruitment systems, payment of various Federal benefits (health related, Social Security, Worker's Compensation, etc.), determinations for security clearances, taxpayer identification and union dues withholding through payroll deduction, among others.

Accordingly, the proposed rule, published on January 18, 2008, in the Federal Register (73 FR 3410), is withdrawn as of January 27, 2010.

Office of Personnel Management.
John Berry,
Director.

[FR Doc. 2010-1616 Filed 1-26-10; 8:45 am]

BILLING CODE 6325-39-P